DEPARTMENT OF HOUSING AND URBAN DEVELOPMENT

[Docket No. FR-5415-FA-11]

Announcement of Funding Awards: Office of Healthy Homes and Lead Hazard Control Grant Programs for Fiscal Year (FY) 2010

AGENCY: Office of Healthy Homes and Lead Hazard Control, HUD.

ACTION: Announcement of funding awards.

SUMMARY: In accordance with Section 102(a)(4)(C) of the Department of Housing and Urban Development Reform Act of 1989, this announcement notifies the public of funding decisions made by the Department in competitions for funding under the Office of Healthy Homes and Lead Hazard Control Grant Program Notices of Funding Availability. This announcement contains the name and address of the award recipients and the amounts of award awarded under the Consolidated Appropriations Act, 2010 and prior-year appropriations.

FOR FURTHER INFORMATION CONTACT: Dr. Warren Friedman, Office of Healthy Homes and Lead Hazard Control, Department of Housing and Urban Development, Room 8236, 451 Seventh Street SW., Washington, DC 20410, telephone number 202-402-7574. Hearing-and speech-impaired persons may access the number above via TTY by calling the toll free Federal Relay Service at telephone number 1-800-877-8339.

SUPPLEMENTARY INFORMATION: The FY2010 awards were announced June 11, 2010. These awards were the result of competitions announced in a Federal Register notice published on September 9, 2010 for Lead Based Paint Hazard Control and Lead Hazard Reduction Demonstration Programs (FR-5415-N-11); on October 4, 2010 for the Healthy Homes Production Program (FR-5415-N-18); on October 4, 2010 for Lead Technical Studies and Healthy Homes Technical Studies Programs (FR-5415-N-13); and on October 4, 2010 for Asthma in Public and Multifamily Housing (FR-5415-N-16). The purpose of the competitions was to award funding for grants and cooperative agreements for the Office of Healthy Homes and Lead Hazard Control Grant Programs. Applications were scored and selected on the basis of selection criteria contained in these Notices. A total of $137,845,454 was awarded under Consolidated Appropriation Act, 2010 (Pub. L. 111-117), and prior year appropriations. In accordance with Section 102(a)(4)(C) of the Department of Housing and Urban Development Reform Act of 1989 (103 Stat. 1987; 42 U.S.C. 3545), the Department is publishing the names, addresses, and the amount of these awards as follows:

1. Lead Based Paint Hazard Control Grant Program

A total of $69,700,000 was awarded to 29 grantees for the Lead Based Paint Hazard Control Grant Program and an additional $2,388,637 was awarded to 24 out of the 29 grantees for the Healthy Homes Initiative was under the Consolidated Appropriations Act, 2010: County of Westchester, 148 Martine Avenue, Room 414, White Plains, NY 10601-3311, $1,749,639; Kansas Department of Health and Environment, 1000 SW Jackson, Suite 330, Topeka, KS 66612-1365, $3,100,000; Erie County, 2900 Columbus Avenue, Sandusky, OH 44870-5554, $3,100,000; Minnesota Department of Health, 625 Robert Street North, P.O. Box 64975, St. Paul, MN 55164-0975, $1,742,698; Rhode Island Housing and Mortgage Finance Corp., 44 Washington Street, Providence, RI 02903, $3,100,000; Saginaw County, 1600 N. Michigan Avenue, Saginaw, MI 48602-5395, $3,100,000; Georgia Department of Community Health, 2 Peachtree Street NW., Atlanta, GA 30303-3159, $2,100,000; San Diego Housing Commission, 1122 Broadway, Suite 300, San Diego, CA 92101, $3,100,000; State of North Carolina, 1632 Mail Service Center, Raleigh, NC 27699-1632, $2,596,543; State of Ohio Department of Health, P.O. Box 15278, Columbus, OH 43215-2412, $2,100,000; St. Clair County, 10 Public Square, Belleville, IL 62220-1624, $1,587,581; Vermont Housing and Conservation Board, 58 East State Street, Montpelier, VT 05602-3044, $3,100,000; County of St. Louis, 121 S. Meramee Avenue, Suite 444, Clayton, MO 63105-1725, $2,406,067; City of Sheboygan, 828 Center Avenue, Suite 104, Sheboygan, WI 53081-4442, $1,528,296; Broome County Health Department, 225 Front Street, Binghamton, NY 13905-2448, $2,100,000; City and County of Denver, 201 West Colfax, Dept. 204, Denver, CO 80202-5329, $2,026,698; City of Atlanta, 68 Mitchell Street, Atlanta, GA 30303-0310, $2,100,000; City of Bridgeport, 999 Broad Street, Bridgeport, CT 06604-4060, $3,099,996; City of Brockton, 45 School Street, Brockton, MA 02301-4049, $2,100,000; City of Dubuque Housing & Community Development Dept., 350 W. 6th Street, Suite 312, Dubuque, IA 52001, $3,099,948; City of Duluth, 411 West First, Room 407, Duluth, MN 55802-1197, $1,144,684; City of Greensboro, 300 W. Washington Street, P.O. Box 3136, Greensboro, NC 27402-3136, $3,100,000; City of Lawrence, 200 Common Street, Lawrence, MA 01840-1515, $3,100,000; City of Lorain, 200 West Erie Avenue, Lorain, OH 44052-1606, $2,100,000; City of Omaha, 1819 Farnam Street, Omaha, NE 68183-1000, $2,100,000; Onondaga County, 1100 Civic Center, Syracuse, NY 13202-2908, $3,100,000; Mahoning County, 21 West Boardman Street, Youngstown, OH 44503-1427, $3,100,000; City of Harrisburg, 10 North Second Street, Harrisburg, PA 17101-1637, $2,206,487; City of Providence, 444 Westminster Street, Suite 3A, Providence, RI 02903, $3,100,000.

2. Lead Hazard Reduction Demonstration Grant Program

A total of $48,000,000 was awarded to 12 grantees for the Lead Hazard Reduction Demonstration Grant Program under the Consolidated Appropriations Act, 2010: City of Los Angeles, 1200 West 7th Street, 8th Floor, Los Angeles CA, $4,500,000; City of Cincinnati Department of Health CLPP, 3301 Beekman Street, Cincinnati OH, $4,500,000; City of Manchester, Planning and Community Development Community Improvement Program Division, One City Hall Plaza, Manchester NH, $3,967,678; City of Milwaukee Department of Health, 841 North Broadway, Room 118, Milwaukee WI, $4,500,000; City of New York Department of HPD, 100 Gold Street, New York NY, $4,500,000; City of Newark, 920 Broad Street, Newark NY, $4,500,000; City of Schenectady, 105 State Street, Schenectady NY, $3,212,641; City of Hartford, 550 Main Street, Hartford CT, $4,496,236; City of Syracuse, 201 East Washington Street, Syracuse NY, $2,947,266; State of Tennessee, 401 Church Street, 5th Floor, Nashville TN, $4,500,000; City of Somerville, 93 Highland Avenue, Somerville MA, $1,876,179; Cuyahoga Board of Health, 5550 Venture Drive, Parma OH, $4,500,000.

3. Healthy Homes Production Grant Program

A total of $10,000,000 was awarded to 11 grantees for the Healthy Homes Production Grant Program under the Consolidated Appropriations Act, 2010: City of Portland OR, 421 South West Sixth Avenue, Suite 500, Portland OR, $1,000,000; City of Dubuque Housing and Community Development, 350 West 6th Street, Suite 312, Dubuque IA, $999,973; City of New London, 111 Union Street, New London CT, $200,482; City of Newark NJ, 920 Broad Street, Newark NJ, $1,000,000; City of Philadelphia Department of Public Health, 2100 West Girard Avenue, Philadelphia PA, $1,000,000; Southeastern Michigan Health Association, 3011 West Grand Boulevard, Suite 200 Fisher Building; Detroit MI, $999,995; Sonora Environmental Research Institute Inc., 3202 East Grant Road, Tucson AZ, $999,550; San Diego Housing Commission, 1122 Broadway Suite 300, San Diego CA, $1,000,000; Rebuilding Together Inc., 1899 L Street NW., Washington DC, $1,000,000; Wisconsin Department of Health Services, 1 West Wilson Street, P O Box 7850, Madison WI, $1,000,000; The Center for Working Families Inc., 477 Winsor Street Suite 101, Atlanta GA, $800,000

4. Lead Technical Studies Grant Program

A total of $1,795,831 was awarded to 4 grantees for the Lead Technical Studies Grant Program under the Consolidated Appropriations Act, 2010: The Board of Trustees of the University of Illinois, 809 Marshfield Avenue, MB 502, M/C 551, Chicago, IL 60612, $499,999; SIROM Scientific Solutions LLC, 1 Normal Avenue, CSAM RI-121A, Montclair, NJ 07043, $499,694; The Providence Plan, 10 Davol Square, Suite 300, Providence, RI 02903, $298,000; University of Texas at Arlington, 701 South Nedderman Drive, P.O. Box 19145, Arlington TX 76019, $498,138.

5. Healthy Homes Technical Studies Grant Program

A total of $4,000,000 was awarded to 5 grantees for Healthy Homes Technical Studies Grant Program under the Consolidated Appropriations Act, 2010: University of Cincinnati, 51 Goodman Drive, University Hall, Suite 530, P.O. Box 210222, Cincinnati, OH 45221, $268,709; Massachusetts Department of Public Health, 250 Washington Street, Boston, MA 02108, $949,071; Tulane University, 1430 Tulane Avenue, EP 15, New Orleans, LA 70112, $942,465; President and Fellows of Harvard College, 677 Huntington Avenue, Boston, MA 02115, $942,788; University of Illinois at Chicago, 809 South Marshfield Avenue, MB 502, M/C 551, Chicago, IL 60612, $896,967.

6. Asthma Interventions in Public and Assisted Multifamily Housing Grant Program

A total of $2,060,986 was awarded to 4 grantees for the Asthma Interventions In Public And Assisted Multifamily Housing Grant Program under the Consolidated Appropriations Act, 2010: American Lung Association of the Upper Midwest, 490 Concordia Avenue, Saint Paul, MN 55103, $538,000; Sinai Health System, 1501 South California Avenue, Chicago, IL 60608, $549,000; New York Academy of Medicine. 1216 Fifth Avenue, New York, NY 10029, $549,000; University of Massachusetts, Lowell, 600 Suffolk Street, 2nd Floor, Lowell, MA 01854, $424,986.

Dated: March 26, 2012.
Warren Friedman,
Acting Deputy Director, Office of Healthy Homes and Lead Hazard Control.

[FR Doc. 2012-7735 Filed 3-29-12; 8:45 am]

BILLING CODE 4210-67-P